DEPARTMENT OF DEFENSE

Department of the Army; Corps of Engineers

Availability of the Draft Environmental Impact Statement for the Proposed Rueter-Hess Reservoir, Parker, CO

AGENCY: Department of the Army, DoD.

ACTION: Notice of availability.

SUMMARY: The U.S. Army Corps of Engineers (Corps) has prepared a Draft Environmental Impact Statement (DEIS) to analyze the direct, indirect and cumulative effects of constructing and operating the proposed Rueter-Hess Reservoir near the town of Parker, in Douglas County, Colorado. The project proponent is the Parker Water and Sanitation District (District). The basic purpose of the Proposed Action is to provide a safe, adequate and sustainable municipal water supply to the District, which is capable of meeting peak demands within the District's currently zoned boundary for the next 50 years. The construction of the proposed project would result in permanent impacts to 6.7 acres of wetlands and 5 miles of other waters of the United States, and would require a Section 404 permit.

The DEIS was prepared in accordance with the National Environmental Policy Act (NEPA) of 1969, as amended, and the Corps' regulations for NEPA implementation (33 Code of Federal Regulations (CFR) parts 230 and 325, appendices B and C). The Corps, Omaha District; Regulatory Branch is the lead Federal agency responsible for the DEIS and information contained in the DEIS serves as the basis for a decision regarding issuance of the Section 404 permit. It also provides information for local and state agencies having jurisdictional responsibility for affected resources.

DATES: Written comments on the DEIS will be accepted on or before April 8, 2002. Comments should be submitted to Rodney Schwartz, Corps—Omaha District (address below). Oral and/or written comments may also be presented at the Public Hearing to be held at 7 p.m. on March 12, 2002 at the High Prairie Farm Equestrian Center, 7522 Pinery Parkway South in Parker, Colorado.

ADDRESSES: Copies of the DEIS will be available for review at:

1. Parker Library, 10851 South Crossroad Drive, Parker, CO 80134.

2. Parker Water and Sanitation District, 19801 East Mainstreet, Parker, CO 80138.

3. U.S. Army Corps of Engineers, Denver Regulatory Office, 9307 South Platte Canyon Road, Littleton, CO 80128.

Copies can also be obtained from the Corps' third-party contractor, URS Corporation, attention: Paula Daukas, 8181 East Tufts Avenue, Denver, CO 80237; 303-740-3896; Fax 303-694-3946, paula_daukas@urscorp.com

FOR FURTHER INFORMATION CONTACT: Rodney Schwartz, Senior Project Manager, U.S. Army Corps of Engineers, Omaha District—Regulatory Branch, 12565 West Center Road, Omaha, Nebraska 68144-3869, Phone: 402-221-4143, Fax: 402-221-4939, rodney.j.schwartz@usace.army.mil.

SUPPLEMENTARY INFORMATION: The purpose of the DEIS is to provide decision makers and the public with information pertaining to the Proposed Action, and to disclose environmental impacts and identify mitigation measures to reduce impacts. The DEIS analyzes the Parker Water and Sanitation District's proposal to construct and operate Rueter-Hess Reservoir and the associated water delivery system. The proposed reservoir would be located in Douglas County, Colorado approximately 12 miles southeast of Denver and 3 miles southwest of the town of Parker. The reservoir would be located on Newlin Gulch with a diversion structure along Cherry Creek. The project would include a 16,200 acre-foot (AF) reservoir inundating 470 acres, a 5,300-foot long and 135-foot high dam, two pipelines, a water treatment plant and booster pump station, a diversion structure along Cherry Creek with a pump station, and 16 Denver Basin extraction wellfields.

The proposed water supply system would rely upon renewable sources of water, including the capability of capturing, storing, and reusing seasonal high flows in nearby Cherry Creek, and Advanced Wastewater Treatment (AWT) return flows currently discharged into Cherry Creek. The water from the reservoir would be used primarily to help satisfy the District's peak seasonal demands, thereby reducing the loading on nonrenewable Denver Basin aquifer groundwater. The reservoir is needed by the District to provide operational flexibility to ensure a long-term, reliable water supply.

In addition to the Proposed Action, the DEIS analyzes two alternatives: (1) The Reduced Capacity Reservoir (11,200 AF), and (2) the No Action. The Reduced Capacity Reservoir would be constructed along the same dam axis as the Proposed Action, but with a smaller storage capacity. The dam would be 5,000 feet long, 123 feet high, and inundate approximately 370 acres. A total of 17 Denver Basin wellfields would be developed, one more wellfield than the Proposed Action. The diversion facilities along Cherry Creek would be the same as for the Proposed Action. The No Action Alternative assumes that the Rueter-Hess Reservoir would not be built and that the District would continue with their current operational plan relying upon deep groundwater well fields and alluvial Cherry Creek wellfields to supply their water. It is estimated that 71 Denver Basin wellfields would be required to supply the area within the District's legal boundary.

Rodney J. Schwartz,
Senior Project Manager, Regulatory Branch.

[FR Doc. 02-4177 Filed 2-21-02; 8:45 am]

BILLING CODE 3710-62-P